DEPARTMENT OF TRANSPORTATION

Federal Aviation Administration

14 CFR Part 39

[Docket No. FAA-2005-22628; Directorate Identifier 2005-NM-056-AD]

RIN 2120-AA64

Airworthiness Directives; Boeing Model 737-300, -400, -500, -700, and -800 Series Airplanes; Model 747-400 and -400F Series Airplanes; Model 757-200 Series Airplanes; Model 767-300 Series Airplanes; and Model 777-300 Series Airplanes Equipped With Certain Driessen or Showa Galleys or Driessen Closets

AGENCY: Federal Aviation Administration (FAA), Department of Transportation (DOT).

ACTION: Notice of proposed rulemaking (NPRM).

SUMMARY: The FAA proposes to adopt a new airworthiness directive (AD) for certain Boeing transport category airplanes. This proposed AD would require inspecting to determine if certain galleys and closets are installed, and replacing the spiral wire wrapping of the electrical cables of the galleys and closets with new spiral wire wrapping if necessary. This proposed AD results from testing and reports from the manufacturer indicating unacceptable flammability properties of wire wrapping installed in certain galleys and closets. We are proposing this AD to prevent fire propagation or smoke in the cabin area due to electrical arcing or sparking and ignition of the spiral wire wrapping.

DATES: We must receive comments on this proposed AD by November 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., Room PL-401, on the plaza level of the Nassif Building, Washington, DC. This docket number is FAA-2005-22628; the directorate identifier for this docket is 2005-NM-056-AD.

FOR FURTHER INFORMATION CONTACT: Susan Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION:

Comments Invited

We invite you to submit any relevant written data, views, or arguments regarding this proposed AD. Send your comments to an address listed under ADDRESSES. Include “Docket No. FAA-2005-22628; Directorate Identifier 2005-NM-056-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

We received reports of testing by the manufacturer indicating unacceptable flammability properties of the spiral wire wrapping of the electrical cables in certain galleys and closets on various Boeing transport category airplanes. The existing spiral wire wrapping of certain galleys and closets was not tested for flammability standards and may not self-extinguish in the event of a fire. Electrical arcing or sparking and ignition of the spiral wire wrapping could result in fire propagation or smoke in the cabin area.

Relevant Service Information

We have reviewed the service information identified in the following table.

Service Information
Boeing | Revision | Dated
Special Attention Service Bulletin 737-25-1438 | 1 | November 11, 2004.
Service Bulletin 737-25-1439 | 3 | November 11, 2004.
Special Attention Service Bulletin 747-25-3264 | 1 | November 11, 2004.
Service Bulletin 747-25-3275 | 1 | April 4, 2002.
Special Attention Service Bulletin 757-25-0238 | 2 | November 11, 2004.
Special Attention Service Bulletin 767-25-0297 | 1 | November 11, 2004.
Special Attention Service Bulletin 777-25-0180 | 1 | November 11, 2004.

The service bulletins and special attention service bulletins describe procedures for replacing existing spiral wire wrapping of the electrical cables of the galleys and closets with new spiral protective wrapping that has been shown to meet certain flammability testing requirements. The procedures also describe installing a modification placard to indicate that new spiral protective wrapping has been installed. Each of the service bulletins reference Dreissen Aircraft Interior Systems Service Bulletin SB 25-442, Revision E, dated April 29, 2004, and Showa Aircraft Industry Co., Ltd., Service Bulletin SB 25-30-111, dated December 11, 2000, as applicable, as additional sources of service information. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and the Service Information.”

Differences Between the Proposed AD and the Service Information

Each of the Boeing service bulletins referenced in this proposed AD specify certain Boeing series airplanes. However, this proposed AD is applicable to all the airplane models specified. Since galleys and closets may be removed from one airplane and installed in another airplane, this proposed AD would also require an inspection to determine if certain galleys or closets are installed, or a maintenance record check of the airplane to determine if certain galleys or closets are installed.

Although the Boeing service bulletins refer to accomplishment of certain Driessen Aircraft Interior Systems and Showa service bulletins, or “the latest FAA-approved revision,” this proposed AD would require accomplishment of the Driessen Aircraft Interior Systems and Showa service bulletins specified in this proposed AD. Using the phrase, “or later FAA-approved revision,” violates Office of the Federal Register regulations for approving materials that are incorporated by reference. However, affected operators may request approval to use a later revision of the referenced service bulletin as an alternative method of compliance, under the provisions of paragraph (j) of the proposed AD.

The Boeing service bulletins also specify an imprecise compliance time for replacing the spiral protective wrapping of the electrical cables of the galley, i.e., “at the next heavy maintenance check.” This proposed AD would require replacement within 72 months after the effective date of the AD, and we have coordinated this compliance time with the manufacturer.

Additionally, for clarification and for the purposes of this proposed AD, the use of the term “galley” includes the terms “buffet” and “closets” referenced in certain service information specified in this proposed AD.

Costs of Compliance

There are about 5,177 airplanes of the affected design in the worldwide fleet. This proposed AD would affect about 2,621 airplanes of U.S. registry. The proposed inspection to determine part numbers of the galleys would take about 1 work hour per galley, at an average labor rate of $65 per work hour. Some airplanes have only one galley and some have up to 11 galleys. With the exception of Boeing Model 777-300 airplanes, we estimate the cost of the inspection proposed in this AD for U.S. operators to be between $65 and $715 per airplane.

If an operator is required to replace the spiral protective wrapping of the electrical cables of the galley, we estimate that cost to be as follows:

1. For Dreissen galleys: About two work hours per galley, at an average labor rate of $65 per work hour, and the estimated cost for the new spiral protective wrapping to be about $1,450, per galley. The estimated total cost would be about $1,580, per galley.

2. For Showa galleys: About 20 work hours per galley, at an average labor rate of $65 per work hour, and the estimated cost of the new spiral protective wrapping to be about $1,550, per galley. The estimated total cost would be about $2,850, per galley.

Currently, there are no Boeing Model 777-300 airplanes with the subject galleys on the U.S. Register. However, if a Model 777-300 is imported and placed on the U.S. Register in the future, the required actions would take about 1 work hour per galley, at an average labor rate of $65 per work hour.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-22628; Directorate Identifier 2005-NM-056-AD.

Comments Due Date

(a) The Federal Aviation Administration (FAA) must receive comments on this AD action by November 21, 2005.

Affected ADs

(b) None.

Applicability

(c) This AD applies to Boeing transport category airplanes equipped with certain Driessen Aircraft Interior Systems or Showa galleys, certificated in any category; as identified in paragraphs (c)(1) through (c)(5) inclusive of this AD.

(1) Model 737-300, -400, -500, -700, and -800 series airplanes;

(2) Model 747-400 and 747-400F series airplanes;

(3) Model 757-200 series airplanes;

(4) Model 767-300 series airplanes;

(5) Model 777-300 series airplanes.

Unsafe Condition

(d) This proposed AD results from testing and reports from the manufacturer indicating unacceptable flammability properties of wire wrapping installed in certain galleys and closets. We are proposing this AD to prevent fire propagation or smoke in the cabin area due to electrical arcing or sparking and ignition of the spiral wire wrapping.

Compliance

(e) You are responsible for having the actions required by this AD performed within the compliance times specified, unless the actions have already been done.

Note 1: For clarification and for the purposes of this AD, the use of the term “galley” also includes the terms “buffet” and “closets” that are referenced in certain service information specified in this AD.

Determination of Part Installation

(f) Within 72 months after the effective date of this AD, inspect the galleys to determine if any of the part numbers (P/Ns) installed are identified in the applicable service information specified in Table 1 of this AD. Instead of inspecting the galleys to determine if the P/Ns are installed, a review of airplane maintenance records is acceptable if the P/Ns can be positively determined from that review.

Table 1.—Service Bulletins and Special Attention Service Bulletins
Model and service information | Revision | Dated
Boeing Special Attention Service Bulletin 737-25-1438, for Model 737-300, -400, and -500 series airplanes | 1 | November 11, 2004.
Boeing Service Bulletin 737-25-1439, for Model 737-700 and -800 series airplanes | 3 | November 11, 2004.
Boeing Special Attention Service Bulletin 747-25-3264, for Model 747-400 series airplanes | 1 | November 11, 2004.
Boeing Service Bulletin 747-25-3275, for Model 747-400F series airplanes | 1 | April 4, 2002.
Boeing Special Attention 757-25-0238, for Model 757-200 series airplanes | 2 | November 11, 2004.
Boeing Special Attention Service Bulletin 767-25-0297, for Model 767-300 series airplanes | 1 | November 11, 2004.
Boeing Special Attention Service Bulletin 777-25-0180, for Model 777-300 series airplanes | 1 | November 11, 2004.

Note 2: The service bulletin and special attention service bulletins specified in Table 1 of this AD reference Dreissen Aircraft Interior Systems Service Bulletin SB 25-442, Revision E, dated April 29, 2004; and Showa Aircraft Industry Co., Ltd., Service Bulletin SB 25-30-111, dated December 11, 2000; as applicable; as additional sources of service information.

If Certain Galleys Are Not Installed

(g) If no galley is installed having any P/N identified in the service information specified in paragraph (f) of this AD, no further action is required by this AD.

If Certain Galleys Are Installed

(h) If any galley is installed having any P/N identified in the service information specified in paragraph (f) of this AD: Within 72 months after the effective date of this AD, replace the spiral protective wrapping of the electrical cables of the galley with new spiral protective wrapping that has been shown to meet certain flammability testing requirements, in accordance with the applicable service information specified in paragraph (f) of this AD.

Credit for Previous Replacement

(i) Replacement of the spiral protective wrapping of the electrical cables of any galley with new spiral protective wrapping that has been shown to meet certain flammability testing requirements, in accordance with the service information listed in the Table 2 of this AD, prior to the effective date of this AD, is acceptable for compliance with the requirements of paragraph (h) of this AD.

Table 2.—Previous Accomplishment
Boeing service information | Revision | Dated
Special Attention Service Bulletin 737-25-1438 | Original | March 15, 2001.
Special Attention Service Bulletin 737-25-1439 | Original | March 15, 2001.
Special Attention Service Bulletin 737-25-1439 | 1 | August 2, 2001.
Service Bulletin 737-25-1439 | 2 | December 19, 2001.
Special Attention Service Bulletin 747-25-3264 | Original | March 15, 2001.
Special Attention Service Bulletin 747-25-3275 | Original | March 15, 2001.
Special Attention Service Bulletin 757-25-0238 | Original | March 15, 2001.
Special Attention Service Bulletin 757-25-0238 | 1 | November 15, 2001.
Special Attention Service Bulletin 767-25-0297 | Original | March 15, 2001.
Special Attention Service Bulletin 777-25-0180 | Original | March 15, 2001.

Alternative Methods of Compliance (AMOCs)

(j)(1) The Manager, Seattle Aircraft Certification Office (ACO), FAA, has the authority to approve AMOCs for this AD, if requested in accordance with the procedures found in 14 CFR 39.19.

(2) An AMOC that provides an acceptable level of safety may be used for any replacement required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on September 28, 2005.
Ali Bahrami,
Manager, Transport Airplane Directorate, Aircraft Certification Service.

[FR Doc. 05-20270 Filed 10-6-05; 8:45 am]

BILLING CODE 4910-13-P